DEPARTMENT OF EDUCATION

National Institute on Disability and Rehabilitation Research (NIDRR)—Disability and Rehabilitation Research Projects and Centers Program—Disability Rehabilitation Research Project (DRRP)—Transition to Employment

Catalog of Federal Domestic Assistance (CFDA) Number: 84.133A-1.

AGENCY: Office of Special Education and Rehabilitative Services, Department of Education.

ACTION: Notice of final priority.

SUMMARY: The Assistant Secretary for Special Education and Rehabilitative Services announces a priority for the Disability and Rehabilitation Research Projects and Centers Program administered by NIDRR. Specifically, this notice announces a priority for a DRRP on Transition to Employment. The Assistant Secretary may use this priority for a competition in fiscal year (FY) 2010 and later years. We take this action to focus research attention on areas of national need. We intend this priority to improve rehabilitation services and outcomes for individuals with disabilities.

EFFECTIVE DATE: This priority is effective June 1, 2010.

FOR FURTHER INFORMATION CONTACT: Marlene Spencer, U.S. Department of Education, 400 Maryland Avenue, SW., Room 5133, Potomac Center Plaza (PCP), Washington, DC 20202-2700. Telephone: (202) 245-7532 or by e-mail: marlene.spencer@ed.gov.

If you use a telecommunications device for the deaf (TDD), call the Federal Relay Service (FRS), toll free, at 1-800-877-8339.

SUPPLEMENTARY INFORMATION: This notice of final priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Purpose of Program:

The purpose of the DRRP program is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, training, demonstration, development, dissemination, utilization, and technical assistance. An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

Program Authority: 29 U.S.C. 762(g) and 764(a).

Applicable Program Regulations: 34 CFR part 350.

We published a notice of proposed priority (NPP) for NIDRR's Disability and Rehabilitation Research Projects and Centers Program in the Federal Register on December 29, 2009 (74 FR 68808). The NPP included a background statement that described our rationale for the priority proposed in that notice.

There is one significant difference between the NPP and this notice of final priority (NFP) as discussed in the following section.

Public Comment:

In response to our invitation in the NPP, five parties submitted comments on the proposed priority. An analysis of the comments and of any changes in the priority since publication of the NPP follows.

Generally, we do not address technical and other minor changes or suggested changes the law does not authorize us to make under the applicable statutory authority. In addition, we do not address general comments that raised concerns not directly related to the proposed priority.

Analysis of Comments and Changes:

Comment: One commenter suggested that the priority address the effect of State budget crises on transition programs.

Discussion: Although the priority does not explicitly include a requirement for research on State finances, nothing in the priority precludes an applicant from proposing to examine the effect of this factor on transition programs and employment outcomes for youth with disabilities. However, NIDRR has no basis for requiring all applicants to focus on State finances. The peer review process will determine the merits of each proposal.

Changes: None.

Comment: One commenter asked how NIDRR envisions the relationship between this priority and other NIDRR-funded projects that address specific populations of youth with disabilities, and whether the priority requests a focus on different subpopulations or is inclusive of all youth with disabilities.

Discussion: This priority focuses specifically on transition to employment, rather than on other aspects of transition, such as self-determination or community participation. Accordingly, the target population for this priority is transition-age youth with disabilities who are at risk for poor employment outcomes, rather than all youth with disabilities. We note that under paragraph (b) of the priority, applicants must identify the specific at-risk group or groups of transition-age youth with disabilities they propose to study, provide evidence that the selected population or populations are, in fact, at risk for poor employment outcomes, and explain how the proposed practices are expected to address the needs of the population or populations.

Changes: None.

Comment: One commenter asked NIDRR to elaborate on the definition of disability for purposes of this priority (e.g., whether the priority should focus on individuals with disabilities who have received services under the Individuals with Disabilities Education Act, individuals who are considered to have a disability under the Americans with Disabilities Act, or individuals with disabilities who are eligible for the vocational rehabilitation program).

Discussion: The Rehabilitation Act (Section 7(20)(B)) defines “individual with a disability,” with respect to this program, as any person who “(i) has a physical or mental impairment which substantially limits one or more of such person's major life activities; (ii) has a record of such an impairment; or (iii) is regarded as having such an impairment.” Within the broad constraints of this definition, applicants have the flexibility to specify their target population for the purposes of their proposed projects.

Changes: None.

Comment: One commenter questioned the relationship between the research activities to be conducted under paragraph (a) and the research activities to be conducted under paragraph (b) of the priority. The commenter asked whether proposals should determine the promising practice(s) to be studied under paragraph (b) before all of the research conducted under paragraph (a) has been completed.

Discussion: Paragraph (a) of the priority requires the applicant to conduct research to identify promising employment-focused practices for transition-age youth with disabilities. Paragraph (b) requires the applicant to conduct research to determine the effectiveness of promising transition practices, using at least one of the promising practices identified in paragraph (a). NIDRR acknowledges the difficulty involved in planning to meet the requirements in paragraph (b) before the research activities proposed for paragraph (a) are completed, and therefore will change paragraph (b) to make clear that it is not necessary for an applicant to fully delineate the range of promising practices under paragraph (a) before planning the research under paragraph (b).

Changes: NIDRR has revised the priority to remove the reference to paragraph (a) in paragraph (b) of the priority to clarify that the promising practices evaluated under paragraph (b) are not wholly dependent on the results of research conducted by the applicant under paragraph (a).

Comment: One commenter asked how NIDRR defines employment outcomes for the target population. Another commenter asked whether the research projects funded under this priority should demonstrate effects on direct employment outcomes or on outcomes related to the employability of the target population.

Discussion: There is a wide variety of valid definitions and measures of employment outcomes, many of which would be precluded if NIDRR specified those measures and outcomes in the priority. Therefore, NIDRR is not providing a definition of employment outcome nor is it specifying the types of employment outcomes an applicant should use. Instead, NIDRR encourages applicants to use definitions and outcome measures that are appropriate to the research projects being proposed. The peer review process will determine the merits of each application.

Changes: None.

Comment: One commenter recommended that the priority focus on effective practices and interventions for individuals who are deaf-blind.

Discussion: Paragraph (b) of the priority requires applicants to identify the specific at-risk group or groups of transition-age youth with disabilities they propose to study, provide evidence that the selected population or populations are, in fact, at risk for poor employment outcomes, and explain how the proposed practices are expected to address the needs of the population or populations. Provided an applicant meets these requirements, it is not limited in the characteristics of the subpopulations it may identify and therefore could choose to include youth who are deaf-blind in its proposed project.

Changes: None.

Comment: One commenter encouraged NIDRR to recognize organized recreational and competitive sports programs for youth with disabilities as a promising practice in helping to address poor employment outcomes among transition-age youth with disabilities.

Discussion: Paragraph (a) of the priority specifies that the research conducted under this priority should generate new knowledge of promising transition practices, and paragraph (b) requires research on the effectiveness of transition practices for a particular subpopulation of transition-age youth with disabilities who are at risk for poor employment outcomes. The language in the priority does not specify the type of practices to be investigated. Therefore, the priority does not preclude an applicant from investigating the effects of recreational and competitive sports programs on employment outcomes for transition-age youth at risk for poor employment outcomes. However, NIDRR has no basis for requiring all applicants to conduct research on such programs. The peer review process will determine the merits of each application.

Changes: None.

Final Priority:

The Assistant Secretary for Special Education and Rehabilitative Services announces a priority for a Disability and Rehabilitation Research Project (DRRP) on Transition to Employment. The purpose of this priority is to identify and evaluate promising practices that will facilitate job entry and career development for transition-age youth with disabilities who are at risk for poor employment outcomes.

A number of factors can affect employment outcomes for this population, including demographic characteristics (e.g., race/ethnicity, age), disability characteristics (e.g., disability type) and disadvantaged background (e.g., poverty, foster care, involvement in the juvenile justice system). The DRRP must build upon the current research literature and ongoing implementation and demonstration of promising practices in the field of transition to employment.

Under this priority, the DRRP must be designed to contribute to the following outcomes:

(a) New knowledge of promising employment-focused transition practices for transition-age youth with disabilities who are at risk for poor employment outcomes. The DRRP must contribute to this outcome by conducting research to identify such practices. These practices may include, but are not limited to: work experience during the secondary school years; involvement of employers in the design and implementation of the transition program; supported employment; and increased coordination among schools, State vocational rehabilitation (VR) programs, or other programs serving transition-age youth with disabilities.

(b) New knowledge regarding the effectiveness of employment-focused transition practices for transition-age youth with disabilities at risk for poor employment outcomes. The DRRP must contribute to this outcome by implementing and evaluating at least one promising practice for a particular at-risk group of transition-age youth with disabilities. In evaluating the promising practice or practices, the DRRP must use scientifically based research, as defined in section 9101(37) of the Elementary and Secondary Education Act of 1965, as amended (20 U.S.C. 7801(37)). Applicants must identify the specific at-risk group or groups of transition-age youth with disabilities they propose to study, provide evidence that the selected population or populations are, in fact, at risk for poor employment outcomes, and explain how the proposed practices are expected to address the needs of the population or populations.

(c) Enhancement of the knowledge base of policy makers, State VR personnel, and personnel of other programs serving transition-age youth with disabilities. The DRRP must contribute to this outcome by conducting targeted dissemination of results from research conducted under paragraphs (a) and (b).

• In addition, through coordination with the NIDRR Project Officer, the DRRP must contribute to this outcome by:

(1) Collaborating with relevant technical assistance grantees from the Rehabilitation Services Administration, such as the Technical Assistance and Continuing Education (TACE) Centers; and

(2) Collaborating with relevant technical assistance grantees from the Office of Special Education Programs, such as the National Secondary Transition Technical Assistance Center.

Types of Priorities:

When inviting applications for a competition using one or more priorities, we designate the type of each priority as absolute, competitive preference, or invitational through a notice in the Federal Register. The effect of each type of priority follows: Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Note: This notice does not solicit applications. In any year in which we choose to use this priority, we invite applications through a notice in the Federal Register.

Executive Order 12866: This notice has been reviewed in accordance with Executive Order 12866. Under the terms of the order, we have assessed the potential costs and benefits of this regulatory action.

The potential costs associated with this final regulatory action are those resulting from statutory requirements and those we have determined as necessary for administering this program effectively and efficiently.

In assessing the potential costs and benefits—both quantitative and qualitative—of this final regulatory action, we have determined that the benefits of the final priority justify the costs.

Discussion of costs and benefits:

The benefits of the Disability and Rehabilitation Research Projects and Centers Programs have been well established over the years in that similar projects have been completed successfully. This final priority will generate new knowledge about transition to employment for youth with disabilities, through research, development, dissemination, utilization, or technical assistance projects.

Another benefit of this final priority is that the establishment of a new DRRP will improve the lives of individuals with disabilities. The new DRRP will generate, disseminate, and promote the use of new information about transition to employment for youth with disabilities. This information will improve the options for youth with disabilities as they transition into adulthood and employment activities.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll-free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 27, 2010.
Alexa Posny,
Assistant Secretary for Special Education and Rehabilitative Services.

[FR Doc. 2010-10183 Filed 4-29-10; 8:45 am]

BILLING CODE 4000-01-P